COMMISSION ON CIVIL RIGHTS

Notice of Public Meeting of the Florida Advisory Committee; Cancellation

AGENCY: Commission on Civil Rights.

ACTION: Notice; cancellation of web briefing.

SUMMARY: The Commission on Civil Rights published a notice in the Federal Register concerning a briefing of the Florida Advisory Committee. The briefing scheduled for Wednesday, August 24, 2022, at 3:00 p.m. ET is cancelled. The notice is in the Federal Register of Monday, August 1, 2022, in FR Doc. 2022-16357, in the third column of page 46937 and the first column of page 46938.

FOR FURTHER INFORMATION CONTACT: Melissa Wojnaroski, DFO, at mwojnaroski@usccr.gov or (202) 618-4158.

Dated: August 9, 2022.
David Mussatt,
Supervisory Chief, Regional Programs Unit.

[FR Doc. 2022-17439 Filed 8-12-22; 8:45 am]

BILLING CODE P